DEPARTMENT OF LABOR

Occupational Safety and Health Administration

29 CFR Parts 1910, 1915, and 1926

[Docket No. OSHA-2010-0034]

RIN 1218-AB70

Occupational Exposure to Crystalline Silica; Extension of Comment Period; Extension of Period To Submit Notices of Intention To Appear at Public Hearings; Scheduling of Public Hearings

AGENCY: Occupational Safety and Health Administration (OSHA), Labor.

ACTION: Proposed rule; extension of comment period; extension of deadline for submitting notices of intention to appear at public hearings; scheduling of public hearings.

SUMMARY: The Occupational Safety and Health Administration (OSHA) is extending the deadline for submitting comments on the Notice of Proposed Rulemaking (NPRM) on Occupational Exposure to Crystalline Silica for an additional 47 days and extending the deadline for submitting notices of intention to appear at its informal public hearings for an additional 30 days. OSHA also is delaying the start of the public hearings by two weeks.

DATES: Written comments. Written comments on the NPRM must be submitted (postmarked, sent, or received) by Monday, January 27, 2014.

Informal public hearings. The Agency plans to hold informal public hearings beginning on Tuesday, March 18, 2014, in Washington, DC. OSHA expects the hearings to last from 9:30 a.m. to 5:30 p.m., local time; a schedule will be released prior to the start of the hearings. The exact daily schedule may be amended at the discretion of the presiding administrative law judge (ALJ). If necessary, the hearings will continue at the same time on subsequent days. Peer reviewers of OSHA's Health Effects Literature Review and Preliminary Quantitative Risk Assessment will be present in Washington, DC to hear testimony on the second day of the hearing, March 19, 2014; see Section XV of the NPRM preamble for more information on the peer review process (78 FR 56274, 56440-56442; September 12, 2013).

Notice of intention to appear at the hearings. Interested persons who intend to present testimony or question witnesses at the hearings must submit (transmit, send, postmark, deliver) a notice of their intention to do so by December 12, 2013. The notice of intent must indicate if the submitter requests to present testimony on March 19, 2014, in the presence of the peer reviewers.

Hearing testimony and documentary evidence. Interested persons who request more than 10 minutes to present testimony, or who intend to submit documentary evidence, at the hearings must submit (transmit, send, postmark, deliver) the full text of their testimony and all documentary evidence by January 27, 2014. See Section XV of the NPRM preamble for details on the format and how to file a notice of intention to appear, submit documentary evidence at the hearing, and request an appropriate amount of time to present testimony (78 FR 56274, 56440-56442; September 12, 2013).

ADDRESSES: Written comments. You may submit comments, identified by Docket No. OSHA-2010-0034, by any of the following methods:

Electronically: You may submit comments and attachments electronically at http://www.regulations.gov, which is the Federal e-Rulemaking Portal. Follow the instructions on-line for making electronic submissions.

Fax: If your submissions, including attachments, are not longer than 10 pages, you may fax them to the OSHA Docket Office at (202) 693-1648.

Mail, hand delivery, express mail, messenger, or courier service: You may submit your comments to the OSHA Docket Office, Docket No. OSHA-2010-0034, U.S. Department of Labor, Room N-2625, 200 Constitution Avenue NW., Washington, DC 20210, telephone (202) 693-2350 (OSHA's TTY number is (877) 889-5627). Deliveries (hand, express mail, messenger, or courier service) are accepted during the Department of Labor's and Docket Office's normal business hours, 8:15 a.m. to 4:45 p.m., E.T.

Instructions: All submissions must include the Agency name and the docket number for this rulemaking (Docket No. OSHA-2010-0034). All comments, including any personal information you provide, are placed in the public docket without change and may be made available online at http://www.regulations.gov. Therefore, OSHA cautions you about submitting personal information such as social security numbers and birthdates.

If you submit scientific or technical studies or other results of scientific research, OSHA requests (but is not requiring) that you also provide the following information where it is available: (1) Identification of the funding source(s) and sponsoring organization(s) of the research; (2) the extent to which the research findings were reviewed by a potentially affected party prior to publication or submission to the docket, and identification of any such parties; and (3) the nature of any financial relationships (e.g., consulting agreements, expert witness support, or research funding) between investigators who conducted the research and any organization(s) or entities having an interest in the rulemaking. If you are submitting comments or testimony on the Agency's scientific and technical analyses, OSHA requests that you disclose: (1) The nature of any financial relationships you may have with any organization(s) or entities having an interest in the rulemaking; and (2) the extent to which your comments or testimony were reviewed by an interested party prior to its submission. Disclosure of such information is intended to promote transparency and scientific integrity of data and technical information submitted to the record. This request is consistent with Executive Order 13563, issued on January 18, 2011, which instructs agencies to ensure the objectivity of any scientific and technological information used to support their regulatory actions. OSHA emphasizes that all material submitted to the rulemaking record will be considered by the Agency to develop the final rule and supporting analyses.

Informal public hearings. The Washington, DC hearing will be held in the auditorium of the U.S. Department of Labor, 200 Constitution Avenue NW., Washington, DC 20210.

Notice of intention to appear, hearing testimony and documentary evidence. You may submit (transmit, send, postmark, deliver) your notice of intention to appear, hearing testimony, and documentary evidence, identified by docket number (OSHA-2010-0034), by any of the following methods:

Electronically: http://www.regulations.gov. Follow the instructions online for electronic submission of materials, including attachments.

Fax: If your written submission does not exceed 10 pages, including attachments, you may fax it to the OSHA Docket Office at (202) 693-1648.

Regular mail, express delivery, hand delivery, and messenger and courier service: Submit your materials to the OSHA Docket Office, Docket No. OSHA-2010-0034, U.S. Department of Labor, Room N-2625, 200 Constitution Avenue NW., Washington, DC 20210; telephone (202) 693-2350 (TTY number (877) 889-5627). Deliveries (express mail, hand delivery, and messenger and courier service) are accepted during the Department of Labor's and OSHA Docket Office's normal hours of operation, 8:15 a.m. to 4:45 p.m., ET.

Instructions: All submissions must include the Agency name and docket number for this rulemaking (Docket No. OSHA-2010-0034). All submissions, including any personal information, are placed in the public docket without change and may be available online at http://www.regulations.gov. Therefore, OSHA cautions you about submitting certain personal information, such as social security numbers and birthdates. Because of security-related procedures, the use of regular mail may cause a significant delay in the receipt of your submissions. For information about security-related procedures for submitting materials by express delivery, hand delivery, messenger, or courier service, please contact the OSHA Docket Office. For additional information on submitting notices of intention to appear, hearing testimony or documentary evidence, see Section XV of the NPRM preamble, Public Participation (78 FR 56274, 56440-56442; September 12, 2013).

Docket: To read or download comments, notices of intention to appear, and materials submitted in response to this Federal Register notice, go to Docket No. OSHA-2010-0034 at http://www.regulations.gov or to the OSHA Docket Office at the address above. All comments and submissions are listed in the http://www.regulations.gov index; however, some information (e.g., copyrighted material) is not publicly available to read or download through that Web site. All comments and submissions are available for inspection and, where permissible, copying at the OSHA Docket Office.

Electronic copies of this Federal Register document are available at http://regulations.gov. Copies also are available from the OSHA Office of Publications, Room N-3101, U.S. Department of Labor, 200 Constitution Avenue NW., Washington, DC 20210; telephone (202) 693-1888. This document, as well as news releases and other relevant information, is also available at OSHA's Web site at http://www.osha.gov.

FOR FURTHER INFORMATION CONTACT: For general information and press inquiries, contact Frank Meilinger, Director, Office of Communications, Room N-3647, OSHA, U.S. Department of Labor, 200 Constitution Avenue NW., Washington, DC 20210; telephone (202) 693-1999; email meilinger.francis2@dol.gov. For technical inquiries, contact William Perry or David O'Connor, Directorate of Standards and Guidance, Room N-3718, OSHA, U.S. Department of Labor, 200 Constitution Avenue NW., Washington, DC 20210; telephone (202) 693-1950 or fax (202) 693-1678. For hearing inquiries, contact Frank Meilinger, Director, Office of Communications, Room N-3647, OSHA, U.S. Department of Labor, 200 Constitution Avenue NW., Washington, DC 20210; telephone (202) 693-1999; email meilinger.francis2@dol.gov.

SUPPLEMENTARY INFORMATION: OSHA published a notice of proposed rulemaking on September 12, 2013, for occupational exposure to respirable crystalline silica (78 FR 56274). This notice requested written comments by December 11, 2013 and notices of intention to appear at the public hearings by November 12, 2013; as well as established the public hearing to commence on March 4, 2014. Several interested parties have requested an extension of the comment period, explaining that they needed additional time to provide a thorough review and response to the NPRM. OSHA is extending the deadline for submitting notices of intention to appear at the hearings by 30 days to December 12, 2013; the deadline for submitting written comments and testimony by 47 days to January 27, 2014; and the commencement of the hearings by two weeks to now begin March 18, 2014 in order to allow additional time for interested parties to review the proposed measures; submit their notices of intention to appear, comments and testimony; and prepare for the public hearings.

Authority and Signature: This document was prepared under the direction of David Michaels, Ph.D., MPH, Assistant Secretary of Labor for Occupational Safety and Health, U.S. Department of Labor, 200 Constitution Avenue NW., Washington, DC 20210, pursuant to sections 4, 6, and 8 of the Occupational Safety and Health Act of 1970 (29 U.S.C. 653, 655, 657); section 107 of the Contract Work Hours and Safety Standards Act (the Construction Safety Act) (40 U.S.C. 333); section 41 of the Longshore and Harbor Worker's Compensation Act (33 U.S.C. 941); Secretary of Labor's Order No. 1-2012 (77 FR 3912, January 25, 2012); and 29 CFR part 1911.

Signed at Washington, DC, on October 25, 2013.
David Michaels,
Assistant Secretary of Labor for Occupational Safety and Health.

[FR Doc. 2013-25863 Filed 10-30-13; 8:45 am]

BILLING CODE 4510-26-P